DEPARTMENT OF HEALTH AND HUMAN SERVICES

National Institutes of Health

Proposed Collection; Comment Request; Partner and Customer Satisfaction Surveys

SUMMARY: In compliance with the requirement of Section 3506(c)(2)(A) of the Paperwork Reduction Act of 1995, for opportunity for public comment on proposed data collection projects, the Center for Scientific Review (CSR), the National Institutes of Health (NIH) will publish periodic summaries of proposed projects to be submitted to the Office of Management and Budget (OMB) for review and approval.

Proposed Collection: Title: partner and Customer Satisfaction Surveys. Type of Information Collection Request: Revision OMB #0925-0474; expires September 30, 2002. Need and Use of Information Collection: The information collection in these surveys will be used by Center for Scientific Review personnel: (1) To assess the quality of operations and processes used by CSR to review grant applications; (2) to assess the quality of service provided to our partners and customers; (3) to assist with the design of modifications of these operations, processes and services, based on partner and customer input; (4) to develop new modes of operation based on partner and customer need; and (5) to obtain partner and customer feedback about the efficacy of implemented modifications. These surveys will almost certainly lead to quality improvement activities that will enhance and/or streamline CSR's operations. The major mechanism by which CSR will request input is through surveys. The survey for partners is generic and tailored for Scientific Review Group (SRG) past and present members and chairs. The survey for customers (i.e., grant applicants) will have slight variations determined by which category of scientific review group the researcher/investigator's grant application is reviewed. Surveys will be collected as written documents or via the Internet. Information gathered from these surveys will be presented to, and used directly by, CSR management to enhance the operations, processes, and services of our organization. Frequency of Response: Yearly. Affected Public: Universities, not-for-profit institutions, business or other for-profit, small businesses and organizations, and individuals. Type of Respondents: Adult scientific professionals. The annual reporting burden is as follows: Estimated Number of Respondents: 6,081 respondents in FY 2003, 6081 respondents in FY 2004 and 6081 respondents in FY 2005. Estimated Number of Responses per Respondent: 1 in FY 2003, 1 in FY 2004, and 1 in FY 2005. Average Burden Hours Per Response: 0.33. Estimated Total Annual Burden Hours Requested: 2007 in FY 2003, 2007 in FY 2004 and 2007 in FY 2005. Costs for time were estimated using the rate of $38.00 per hour for SRG members, SRG chairs, and principal investigators/grant applicants. The estimated annual cost each year for which the generic clearance is requested is $76,266 for FY 2003, $76,266 for FY 2004 and $76,266 for FY 2005. Respondents or recordkeepers should incur no additional costs.

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact: Karl Malik, Ph.D., Office of the Director, Center for Scientific Review, National Institutes of Health, 6701 Rockledge Drive, Rockledge II, Rm. 3016, Bethesda, MD 20892-7814, or call non-toll free: 301-435-1114, or E-mail your request, including your address to: malikk@csr.nih.gov.

Comments Due Date: Comments regarding this information collection are best assured of having their full effect if received on or before August 5, 2002.

Dated: May 30, 2002.
John Czajkowski,
Acting Executive Officer, Center for Scientific Review, NIH.

[FR Doc. 02-14118 Filed 6-5-02; 8:45 am]

BILLING CODE 4140-01-M